DEPARTMENT OF STATE

[Public Notice 8503]

Culturally Significant Object Imported for Exhibition Determinations: “A Loan From the Vatican Museums: Madonna and Child With Saint John the Baptist and Saint Mary Magdalene”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the object to be included in the exhibition “A Loan from the Vatican Museums: Madonna and Child with Saint John the Baptist and Saint Mary Magdalene,” imported from abroad for temporary exhibition within the United States, is of cultural significance. The object is imported pursuant to a loan agreement with the foreign owner or custodian. I also determine that the exhibition or display of the exhibit object at The Art Institute of Chicago, Chicago, Illinois, from on or about October 30, 2013, until on or about January 9, 2014, and at possible additional exhibitions or venues yet to be determined, is in the national interest. I have ordered that Public Notice of these Determinations be published in the Federal Register.

FOR FURTHER INFORMATION CONTACT: For further information, including a description of the exhibit object, contact Paul W. Manning, Attorney-Adviser, Office of the Legal Adviser, U.S. Department of State (telephone: 202-632-6469). The mailing address is U.S. Department of State, SA-5, L/PD, Fifth Floor (Suite 5H03), Washington, DC 20522-0505.

Dated: October 15, 2013.
Evan M. Ryan,
Assistant Secretary, Bureau of Educational and Cultural Affairs, Department of State.

[FR Doc. 2013-24718 Filed 10-21-13; 8:45 am]

BILLING CODE 4710-05-P